DEPARTMENT OF AGRICULTURE

Forest Service

Notice of New Recreation Fee Site; Federal Lands Recreation Enhancement Act, (Title VIII, Pub. L. 108-447)

AGENCY: National Forests in Mississippi, USDA Forest Service.

ACTION: Notice of New Recreation Fee Site.

SUMMARY: Bethel Motorcycle and Bethel ATV Trails are located near Saucier, MS. Currently, the Bethel Motorcycle trail contains a 17-mile single track trail and the Bethel ATV Trail contains 39 miles of trail. Both sites contain an information board, toilet facilities, and parking; and security is provided. The Forest Service proposes to charge $10 per operator for access to these trails. A $60 annual pass will also be available for purchase by the public. This annual pass could be used for access to three other motorized trails in the National Forests in Mississippi and would be valid for 12 months. The fees listed are only proposed and will be determined upon further analysis and public comments. All funds received from these fees would be used for continued operation and maintenance of the facility and allow additional amenities to be added to enhance the recreational experience at the facility. Comparable recreational use fees are being proposed at other sites that provide similar recreational opportunities in Mississippi.

DATES: Comments will be accepted through November 1, 2010. Implementation of fees is proposed to take place in fiscal year 2011.

FOR FURTHER INFORMATION CONTACT: Jeff Gainey, Recreation Program Manager, 601-965-1617, National Forests in Mississippi, 100 West Capitol Street, Suite 1141, Jackson, MS 39269.

SUPPLEMENTARY INFORMATION: The Federal Recreation Lands Enhancement Act (Title VII, Pub. L. 108-447) directed the Secretary of Agriculture to publish advance notice in the Federal Register whenever new recreation fee areas are established.

Dated: April 28, 2010.
Margrett L. Boley,
Forest Supervisor, National Forest in Mississippi.

[FR Doc. 2010-11040 Filed 5-11-10; 8:45 am]

BILLING CODE 3410-11-M